DEPARTMENT OF JUSTICE

[AAG/A Order No. 213-2001]

Privacy Act of 1974; System of Records

Pursuant to the provisions of the Privacy Act of 1974 (5 U.S.C. 552a), notice is hereby given that the Department of Justice proposes to modify a system of records maintained by the Immigration and Naturalization Service (INS), specifically:

Security Access Control System (SACS), JUSTICE/INS-014, last published May 10, 1990 (55 FR 19674).

The system of records is being modified: (1) To add additional sites where the system is located, (2) add a new category of individual covered by the system, (3) to add four routine use disclosures, (4) expand the safeguards, (5) revise the System Manager section to include all Security Directors within the INS and (6) correct the Retention and Disposal section. Other minor changes and edits have also been made to the sections on Record Access Procedures and Contesting Record Procedures of the notice.

In accordance with 5 U.S.C. 552a(e)(4) and (11), the public is given a 30-day period in which to comment on the modified system. The Office of Management and Budget (OMB), which has oversight responsibility under the Act, requires a 40-day period in which to conclude its review of the system. Therefore, please submit any comment by (30 days from the publication date of this notice). The public, OMB, and the Congress are invited to submit any comments to Mary Cahill, Management Analyst, Management and Planning Staff, Justice Management Division, Department of Justice, Washington, DC 20530 (Room 1400, National Place Building).

In accordance with 5 U.S.C. 552a, the Department has provided a report to OMB and the Congress.

Dated: January 8, 2001.
Stephen R. Colgate,
Assistant Attorney General for Administration.

JUSTICE/INS-014

SYSTEM NAME:

Security Access Control System (SACS).

SYSTEM LOCATION:

Headquarters, Regional and District offices, Administrative Centers, and other Immigration and Naturalization Service (INS) file control offices as detailed in JUSTICE/INS-999, last published in the Federal Register on April 13, 1999 (64 FR 18052).

CATEGORIES OF INDIVIDUALS COVERED BY THE SYSTEM:

INS employees and contractors.

CATEGORIES OF RECORDS IN THE SYSTEM:

SACS is an automated system which contains: employee name, badge number, social security number, physical descriptions, photographs, date, time and location of entry into and departure from INS buildings and office suites.

AUTHORITY FOR MAINTENANCE OF THE SYSTEM:

Executive Order 12356, 5 U.S.C. 552a(e)(10), Public Law Number 90-620, as amended (44 U.S.C. Chapters 21 and 23), 5 U.S.C. 301, and 40 U.S.C. 486(c), as implemented by 41 CFR 101-20.3 and 41 CFR 101-20.103. The Executive Order and statutes address the security of records maintained by Federal agencies, Public Buildings, Property and Works to include Conduct on Federal Property and Physical Protection and Building Security.

PURPOSE(S):

The purpose of the system is to improve the security of Federal records and property, and the safety of INS employees, by instituting a more effective means by which to detect unauthorized entry into the INS buildings. Access passes (i.e., card key) must be inserted into an electronic card reader which will record identifying data and will automatically unlock the entrance door if the pass is active and authorized.

ROUTINE USES OF RECORDS MAINTAINED IN THE SYSTEM, INCLUDING CATEGORIES OF USERS AND THE PURPOSES OF SUCH USES:

A. To the news media and the public pursuant to 28 CFR 50.2 unless it is determined that release of the specific information in the context of a particular case would constitute an unwarranted invasion of personal privacy.

B. To a Member of Congress or staff acting on the Member's behalf when the Member or staff requests the information on behalf of and at the request of the individual who is the subject of the record.

C. To the General Services Administration and the National Archives and Records Administration in records management inspections conducted under the authority of 44 U.S.C. 2904 and 2906.

D. To contractors who have been hired to perform Immigration and Naturalization Service functions to the extent necessary to enable them to perform their assigned duties.

POLICIES AND PRACTICES FOR STORING, RETRIEVING, ACCESSING RETAINING AND DISPOSING OF RECORDS IN THE SYSTEM:

STORAGE:

Records are maintained on magnetic media within the server and on data cartridges used as back-ups.

RETRIEVABILITY:

Records are retrieved by last name, social security number or numerically by access pass number.

SAFEGUARDS:

The databases is maintained in a locked room with access limited to the Security staff and INS management and supervisory officials. System users must sign on with INS assigned and approved user identification and password.

RETENTION AND DISPOSAL:

Data recorded on magnetic media within the server will be retained for a period of three years, at which time the information will be deleted. Information on data cartridges will be retained briefly until the date is erased by recording new data. Key accountability files (i.e., files that relate to the accountability of issued card keys) are retained and disposed of in accordance with General Records Schedule 18, items 16 and 18.

SYSTEM MANAGER(S) AND ADDRESS:

Director, Office of Security and Security Officers at each INS office maintaining a database as noted in System Locations.

NOTIFICATION PROCEDURE:

Address inquiries to the system manager identified above.

RECORD ACCESS PROCEDURES:

Requests for access to records in this system shall be in writing, and should be addressed to the appropriate INS FOIS/PA Officer where the records are located or if unknown to the FOIS/PA Officer at 425 I Street, NW, Second Floor, Union Labor Life Building, Washington, DC 20536. Such requests may be submitted either by mail or in person. Clearly mark the envelop “Privacy Act Request.” The requester shall include a description of the general subject matter and provide his or here full name, date and place of birth, verification of identifying (in accordance with 8 CFR 103.21 (b)) and any other identifying information which may be of assistance in locating the record. The requester shall also provide a return address for transmitting the records to be released.

CONTESTING RECORD PROCEDURES:

A determination as to the granting or denial of a request shall be made at the time a request is received. An individual who desires to request amendment of records maintained in the system should direct his or her request to the appropriate FOIS/PA Officer at the INS office where the record is maintained or (if unknown) to the INS FOIA/PA Officer at 425 I Street, NW, Second Floor, Union Labor Life Building, Washington, DC. 20536. The request should state clearly and concisely the information being contested, the reasons for contesting it and the proposed amendment to the information.

RECORD SOURCE CATEGORIES:

INS employees.

SYSTEM EXEMPTED FROM CERTAIN PROVISIONS OF THE ACT:

None.

[FR Doc. 01-1738 Filed 1-19-01; 8:45 am]

BILLING CODE 4410-10-M